DEPARTMENT OF AGRICULTURE

Forest Service

Colville Resource Advisory Committee; Meeting

AGENCY: Forest Service, USDA.

ACTION: Notice of meeting.

SUMMARY: The Colville Resource Advisory Committee will meet in Colville Washington. The committee is authorized under the Secure Rural Schools and Community Self-Determination Act (Pub. L. 110-343) (the Act) and operates in compliance with the Federal Advisory Committee Act. The purpose of the committee is to improve collaborative relationships and to provide advice and recommendations to the Forest Service concerning projects and funding consistent with the title II of the Act. The meeting is open to the public. The purpose of the meeting is vote on fiscal year 2011 projects.

DATES: The meeting will be held May 10, 2011, 9 a.m.

ADDRESSES: The meeting will be held at 985 South Elm Street, Colville, Washington, Community Colleges of Spokane: Colville Center, Dominion Room. Written comments may be submitted as described under Supplementary Information.

All comments, including names and addresses when provided, are placed in the record and are available for public inspection and copying. The public may inspect comments received at Colville National Forest Headquarters, 765 South Main Street, Colville, Washington 99114, Attn: RAC Coordinator. Please call ahead to 509-684-7000 to facilitate entry into the building to view comments.

FOR FURTHER INFORMATION CONTACT: Franklin Pemberton, Public Affairs Officer, Colville National Forest Headquarters, 509-684-7000, fpemberton@fs.fed.us.

Individuals who use telecommunication devices for the deaf (TDD) may call the Federal Information Relay Service (FIRS) at 1-800-877-8339 between 8 a.m. and 8 p.m., Eastern Standard Time, Monday through Friday. Requests for reasonable accomodation for access to the facility or procedings may be made by contacting the person listed For Further Information.

SUPPLEMENTARY INFORMATION: The following business will be conducted: Discussion, presentation and voting of 2011 Colville Resource Advisory Committee projects. The full agenda may be previewd at: https://fsplaces.fs.fed.us/fsfiles/unit/wo/secure_rural_schools.nsf/RAC/Colville

Anyone who would like to bring related matters to the attention of the committee may file written statements with the committee staff before or after the meeting. The agenda will include time for people to make oral statements of three minutes or less. Individuals wishing to make an oral statement should request in writing by May 09, 2011 to be scheduled on the agenda. Written comments and requests for time for oral comments must be sent to Franklin Pemberton, 765 South Main Street, Colville, Washington 99114, or by e-mail to fpemberton@fs.fed.us, or via facsimile to 509-684-7280.

Dated: April 18, 2011.
Craig Newman,
Acting Forest Supervisor.

[FR Doc. 2011-9862 Filed 4-22-11; 8:45 am]

BILLING CODE 3410-11-P